DEPARTMENT OF DEFENSE

Department of the Army; Corps of Engineers

Availability of a Draft Integrated Feasibility Report (Feasibility Study/Environmental Impact Statement/Environmental Impact Report), Los Angeles River Ecosystem Restoration Study, City of Los Angeles, Los Angeles County, CA

AGENCY: Department of the Army, U.S. Army Corps of Engineers, DoD.

ACTION: Notice of availability.

SUMMARY: The U.S. Army Corps of Engineers (Corps) in conjunction with the City of Los Angeles (City) announces the availability of a Draft Integrated Feasibility Report (IFR), which includes a Draft Feasibility Study (FS) and Environmental Impact Statement/Environmental Impact Report (EIS/EIR) for the Los Angeles River Ecosystem Restoration Study, Los Angeles County, CA, for review and comment. The study evaluates alternatives for the purpose of restoring 11 miles of the Los Angeles River from approximately Griffith Park to downtown Los Angeles while maintaining existing levels of flood risk management. Restoration includes creation and reestablishment of historic riparian strand and freshwater marsh habitat to support increased populations of wildlife and enhance habitat connectivity within the study area, as well as to provide opportunities for connectivity to ecological zones such as the Santa Monica Mountains, Verdugo Hills, Elysian Hills, and San Gabriel Mountains. Restoration also includes the reintroduction of ecological and physical processes such as a more natural hydrologic and hydraulic regime that reconnects the river to historic floodplains and tributaries, reduced flow velocities, increased infiltration, improved natural sediment processes, and improved water quality. The study also evaluates opportunities for passive recreation that is compatible with the restored environment. A Notice of Intent for the EIS/EIR was published on November 28, 2008 (73 FR 72455).

DATES: The Draft IFR is available for a 45-day review period from September 20, 2013 through November 5, 2013 pursuant to the National Environmental Policy Act (NEPA) and California Environmental Quality Act (CEQA). Written comments pursuant to the NEPA will be accepted until the close of public review at close of business on November 5, 2013.

ADDRESSES: Questions or comments concerning the Draft IFR may be directed to: Josephine R. Axt, Ph.D.; Chief, Planning Division; U.S. Army Corps of Engineers; Los Angeles District; P.O. Box 532711; ATTN: Ms. Erin Jones, CESPL-PD-RN; Los Angeles, CA 90053-2325 or comments.lariverstudy@usace.army.mil.

FOR FURTHER INFORMATION CONTACT: Ms. Kathleen Bergmann, U.S. Army Corps of Engineers, Los Angeles District, Kathleen.M.Bergmann@usace.army.mil and Ms. Erin Jones, U.S. Army Corps of Engineers, Los Angeles District, Erin.L.Jones@usace.army.mil.

SUPPLEMENTARY INFORMATION: As part of the public involvement process, notice is hereby given by the Corps Los Angeles District of a public meeting to be held at the Los Angeles River Center and Gardens (Atrium), 570 West Avenue 26, Los Angeles, CA 90065 from 5:30 p.m. to 7:30 p.m. on Thursday, October 17, 2013. The public meeting will allow participants the opportunity to comment on the IFR. Attendance at the public hearing is not necessary to provide comments. Written comments may also be given to the contacts listed under ADDRESSES.

The document is available for review at:

(1) online at http://1.usa.gov/1ad0K9z.

(2) Arroyo Seco Regional Branch Library; 6145 N. Figueroa Street, Los Angeles, CA 90042; CD and Hard Copy.

(3) Los Angeles Central Library; 630 W 5th Street Los Angeles, CA 90071; CD and Hard Copy.

(4) Atwater Village Branch Library; 3379 Glendale Boulevard, Los Angeles, CA 90039; CD and Hard Copy.

(5) Cypress Park Branch Library; 1150 Cypress Avenue, Los Angeles CA 90065; CD.

(6) Lincoln Heights Branch Library; 2530 Workman Street, Los Angeles, CA 90031; CD.

(7) Chinatown Branch Library; 639 N. Hill Street, Los Angeles, CA 90012; CD.

(8) Little Tokyo Branch Library; 203 S. Los Angeles Street, Los Angeles CA 90012; CD.

(9) Benjamin Franklin Branch Library; 2200 E. First Street, Los Angeles, CA 90033; CD.

Kimberly M. Colloton,
Colonel, U.S. Army, Commander and District Engineer.

[FR Doc. 2013-22797 Filed 9-18-13; 8:45 am]

BILLING CODE 3720-58-P